DEPARTMENT OF HEALTH AND HUMAN SERVICES

National Institutes of Health

Prospective Grant of Exclusive License: Antibody Therapeutics for the Treatment of Cancer in Humans

AGENCY: National Institutes of Health, Public Health Service, HHS.

ACTION: Notice.

SUMMARY: This is notice, in accordance with 35 U.S.C. 209(c)(1) and 37 CFR 404.7(a)(1)(i), that the National Institutes of Health, Department of Health and Human Services, is contemplating the grant of an exclusive patent license to practice the invention embodied in U.S. Patent Application Number 11/895,326, filed August 24, 2007, entitled “Tumor Markers in Ovarian Cancer” [E-138-2000/0-US-05]; to Morphotek, Incorporated, having a place of business at Exton, PA. The patent rights in these inventions have been assigned to the United States of America.

The prospective exclusive license territory may be worldwide, and the field of use may be limited to antibodies developed by Licensee's proprietary Human MORPHODOMA® antibody technology or via humanization for anti-claudin-3 antibody therapeutics for ovarian cancer.

DATES: Only written comments and/or applications for a license which are received by the NIH Office of Technology Transfer on or before July 7, 2008 will be considered.

ADDRESSES: Requests for copies of the patent application, inquiries, comments, and other materials relating to the contemplated exclusive license should be directed to: Jennifer Wong, Technology Licensing Specialist, Office of Technology Transfer, National Institutes of Health, 6011 Executive Boulevard, Suite 325, Rockville, MD 20852-3804; Telephone: (301) 435-4633; Facsimile: (301) 402-0220; E-mail: wongje@mail.nih.gov.

SUPPLEMENTARY INFORMATION: The technology relates to claudin-3 as an ovarian cancer biomarker. Claudin-3 was identified as a biomarker utilizing SAGE analysis comparing ovarian epithelial tumor cells and normal ovarian epithelial cells. Claudin-3 is a member of a family of transmembrane proteins associated with tight junctions and its function has been associated with invasive ovarian cancer. Inhibition of claudin-3 is a potential therapeutic for the treatment of metastatic ovarian cancer.

The prospective exclusive license will be royalty bearing and will comply with the terms and conditions of 35 U.S.C. 209 and 37 CFR 404.7. The prospective exclusive license may be granted unless within sixty (60) days from the date of this published notice, the NIH receives written evidence and argument that establishes that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: April 29, 2008.
David Sadowski,
Deputy Director, Division of Technology Development and Transfer, Office of Technology Transfer, National Institutes of Health.

[FR Doc. E8-9873 Filed 5-5-08; 8:45 am]

BILLING CODE 4140-01-P